DEPARTMENT OF ENERGY

Technical Conference; Design Concepts of Future Electric Transmission

AGENCY: Office of Electricity Delivery and Energy Reliability, DOE.

ACTION: Notice of Technical Conference.

SUMMARY: The Department of Energy's Office of Electricity Delivery and Energy Reliability (OE) will conduct a technical conference in the Washington, DC area to discuss the design of future electric transmission. The technical conference will discuss the likely demand for future electric transmission and whether the development of conceptual alternative extra high voltage (EHV) systems would assist generation developers, State energy policy officials, utility planners, and other stakeholders. The specific agenda, list of panelists, and meeting location will be posted on the OE Web site at http://www.oe.energy.gov as they become available.

DATES: The technical conference will be held on March 4, 2009.

FOR FURTHER INFORMATION CONTACT: John Schnagl, Director Transmission Adequacy, Office of Electricity Delivery and Energy Reliability, phone (202) 586-1056, or e-mail john.schnagl@hq.doe.gov.

SUPPLEMENTARY INFORMATION: A robust and reliable electricity system is vital to our national economy, security, and well-being. Numerous proposals have been made to modernize the electric transmission systems. Included among these proposals is the construction of an EHV transmission system to augment the existing transmission systems. OE believes it is important to begin a thorough review of whether an EHV system should be considered by States and regional planning entities. To that end, OE is seeking a broader discussion on the ranges of opinion regarding the future requirements of the electric transmission system, and what actions should be considered now to help ensure that the appropriate transmission system is available to meet those future needs.

This technical conference is part of OE's ongoing evaluation of electric transmission adequacy and is not part of the 2009 National Electric Transmission Congestion Study required by the Energy Policy Act of 2005.

The technical conference will pursue two primary areas of interest: Identification of the fundamental issues to be considered in designing future transmission; and exploration of the pros and cons of building an EHV network, in terms of energy and economic efficiency, reliability, access to renewable generation, and reduction of carbon emissions. These areas will be addressed during three panel discussion sessions.

Panel I will address projections of future transmission needs and factors that should be considered to help ensure that an appropriate transmission system is available to meet future needs, including anticipated contributions from Smart Grid, storage, and distributive generation. Panel II discussions will address whether there are advantages to an EHV design over the traditional transmission planning process, what the pros and cons of a supplemental EHV system might be, and what the relationship between the existing transmission system and an EHV system would be. Several entities have proposed conceptual EHV designs. Panel III will address the primary objectives in each design, the criteria that should be considered in selecting any particular design, whether an EHV system could be built in stages with broad public benefits realized with each stage, and the amount of an EHV system that must be completed before the public could see major benefits.

Issued in Washington, DC, on January 27, 2009.
Anthony J. Como,
Acting Deputy Assistant Secretary, Permitting, Siting and Analysis, Office of Electricity Delivery and Energy Reliability.

[FR Doc. E9-2166 Filed 1-30-09; 8:45 am]

BILLING CODE 6450-01-P